DEPARTMENT OF LABOR

Employment and Training Administration

Comment Request for Information Collection for the American Apprenticeship Initiative Grants, New Collection

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed.

Currently, ETA is soliciting comments concerning the collection of data entailed by the American Apprenticeship Initiative Grants, which are designed to support grantees in providing education, training, and job placement assistance through registered apprenticeships in occupations and/or industries that have high-growth potential for which employers are using H-1B visas to hire foreign workers, and the related activities necessary to support such education, training, and placement activities.

DATES: Submit written comments to the office listed in the addresses section below on or before August 31, 2015.

ADDRESSES: Send written comments to John V. Ladd, Administrator, Office of Apprenticeship, Room N-5311, Employment and Training Administration, U.S. Department of Labor, 200 Constitution Avenue NW., Washington, DC 20210. Telephone number: 202-693-2796 (this is not a toll-free number). Individuals with hearing or speech impairments may access the telephone number above via TTY by calling the toll-free Federal Information Relay Service at 1-877-889-5627 (TTY/TDD). Fax: 202-693-3799. Email: ladd.john@dol.gov. To obtain a copy of the proposed information collection request (ICR), please contact the person listed above.

SUPPLEMENTARY INFORMATION:

I. Background

The Employment and Training Administration requires grantees to submit Quarterly Progress Reports on enrolled apprentices in Registered Apprenticeship programs and/or pre-apprenticeship program participants, along with a narrative summary of the partnership progress and implementation measures identified by the grantee in the project work plan. These reports help ETA gauge the effects of the AAI grants, identify grantees and programs that could serve as useful models, and target technical assistance appropriately. The reports can also be used to inform future evaluations.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: New collection.

Title: American Apprenticeship Initiative Grants.

OMB Number: 1205—0NEW.

Affected Public: Individuals/households, state/local/tribal governments, Federal government, private sector (businesses or other for-profits, and, not-for-profit institutions).

Estimated Total Annual Respondents: 6,625.

Estimated Total Annual Responses: 8,500.

Estimated Total Annual Burden Hours: 12,310.

Total Estimated Annual Other Costs Burden: 0.

We will summarize and respond to the comments received when we request OMB approval of this information collection. The comments themselves will also become a matter of public record.

Portia Wu,
Assistant Secretary for Employment and Training, Labor.

[FR Doc. 2015-16320 Filed 7-1-15; 8:45 am]

BILLING CODE 4510-FR-P